DEPARTMENT OF COMMERCE

International Trade Administration

[A-583-837]

Polyethylene Terephthalate Film, Sheet, and Strip From Taiwan: Final Results of Antidumping Duty Administrative Review; 2011-2012

AGENCY: Enforcement and Compliance, formerly Import Administration, International Trade Administration, U.S. Department of Commerce.

SUMMARY: The Department of Commerce (“the Department”) published its preliminary results of the administrative review of the antidumping duty order on polyethylene terephthalate (PET) film, sheet, and strip from Taiwan.¹ The period of review (“POR”) is July 1, 2011, through June 30, 2012. Based upon our analysis of the comments received, we have made changes to the margin calculations for these final results and continue to determine that Shinkong Synthetic Fibers Corporation and its subsidiary Shinkong Material Technology Corporation (collectively “Shinkong”) made sales below normal value. The final dumping margin is listed below in the “Final Results of Review” section of this notice.

¹ See Polyethylene Terephthalate Film, Sheet, and Strip From Taiwan; Preliminary Results of the Antidumping Duty Administrative Review; 2011-12, 78 FR 48651 (August 9, 2013) (“Preliminary Results”).

DATES: Effective Date: February 28, 2014.

FOR FURTHER INFORMATION CONTACT: Milton Koch or Gene Calvert at (202) 482-2584, or (202) 482-3586, respectively; AD/CVD Operations, Office VII, Enforcement and Compliance, International Trade Administration, U.S. Department of Commerce, 14th Street and Constitution Avenue NW., Washington, DC 20230.

SUPPLEMENTARY INFORMATION:

Background

On August 9, 2013, the Department published the Preliminary Results.² The Department conducted verification from August 22 through 30, 2013 in Taipei, Taiwan. On November 8, 2013, Shinkong submitted an updated database.

² See Preliminary Results.

As explained in the memorandum from the Assistant Secretary for Enforcement and Compliance, the Department has exercised its discretion to toll deadlines for the duration of the closure of the Federal Government from October 1, through October 16, 2013.³ Therefore, all deadlines in this segment of the proceeding have been extended by 16 days. If the new deadline falls on a non-business day, in accordance with the Department's practice, the deadline will become the next business day. In addition, the Department extended the deadline for the final results on November 1, 2013, in accordance with section 751(a)(3)(A). The revised deadline for the final results of this review is now February 24, 2014.⁴

³ See Memorandum for the Record from Paul Piquado, Assistant Secretary for the Enforcement and Compliance, “Deadlines Affected by the Shutdown of the Federal Government” (October 18, 2013).

⁴ See Memorandum to from Edward Yang, Office Director, Office VII, to Christian Marsh, Deputy Assistant Secretary for Antidumping and Countervailing Duty Operations, “Polyethylene Terephthalate Film, Sheet, and Strip from Taiwan: Extension of Deadline for Final Results of Antidumping Duty Administrative Review” (November 1, 2013).

Scope of the Order

The products covered by the antidumping duty order are all gauges of raw, pretreated, or primed polyethylene terephthalate film, sheet, and strip, whether extruded or coextruded. Excluded are metalized films and other finished films that have had at least one of their surfaces modified by the application of a performance-enhancing resinous or inorganic layer of more than 0.00001 inches thick. Imports of polyethylene terephthalate film, sheet, and strip are currently classifiable in the Harmonized Tariff Schedule of the United States (“HTSUS”) under item number 3920.62.00.90. HTSUS subheadings are provided for convenience and customs purposes. The written description of the scope of the antidumping duty order is dispositive.

A full description of the scope of the order is contained in the memorandum from Christian Marsh, Deputy Assistant Secretary for Antidumping and Countervailing Duty Operations, to Paul Piquado, Assistant Secretary for Import Administration, “Decision Memorandum for Final Results of Antidumping Duty Administrative Review: Polyethylene Terephthalate Film, Sheet, and Strip from Taiwan; 2011-2012 Administrative Review” (“Issues and Decision Memorandum”), which is issued concurrent with and hereby adopted by this notice.

Analysis of Comments Received

The issue raised in the case and rebuttal briefs by parties is addressed in the Issues and Decision Memorandum. The issue which parties raised is identified in the Appendix to this notice. The Issues and Decision Memorandum is a public document and is on file in the Central Records Unit (“CRU”), Room 7046 of the main Department of Commerce building, as well as electronically via Enforcement and Compliance's Antidumping and Countervailing Duty Centralized Electronic Service System (“IA ACCESS”). IA ACCESS is available to registered users at http://iaaccess.trade.gov and in the CRU. In addition, a complete version of the Issues and Decision Memorandum can be accessed directly on the internet at http://www.trade.gov/enforcement. The signed Issues and Decision Memorandum and the electronic versions of the Issues and Decision Memorandum are identical in content.

Changes Since the Preliminary Results

Based on our analysis of the comments received and information gathered after the Preliminary Results, we have made adjustments to the margin calculations for Shinkong's indirect selling expenses.

Final Results of Review

We determine that Shinkong's weighted-average dumping margin is 4.48 percent for entries of subject merchandise that were produced and/or exported by Shinkong and that entered, or were withdrawn from warehouse, for consumption during the period July 1, 2011, through June 30, 2012.

Assessment Rates

The Department shall determine, and U.S. Customs and Border Protection (“CBP”) shall assess, antidumping duties on all appropriate entries. The Department intends to issue assessment instructions to CBP 15 days after the date of publication of the final results of this review.

For any individually examined respondents whose weighted-average dumping margin is above de minimis (i.e., 0.5 percent) in the final results, we will calculate importer-specific ad valorem duty assessment rates based on the ratio of the total amount of dumping calculated for the importer's examined sales to the total entered value of those sales in accordance with 19 CFR 351.212(b)(1). We will instruct CBP to assess antidumping duties on all appropriate entries covered by this review when the importer-specific assessment rate calculated in the final results of this review is above de minimis. Where either the respondent's weighted average dumping margin is zero or below de minimis or an importer-specific assessment rate is zero or de minimis, we will instruct CBP to liquidate the appropriate entries without regard to antidumping duties.

The Department clarified its “automatic assessment” regulation on May 6, 2003. This clarification will apply to entries of subject merchandise during the POR produced by each respondent for which they did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective for all shipments of PET film from Taiwan entered, or withdrawn from warehouse, for consumption on or after the date of publication of the final results of this administrative review, as provided for by section 751(a)(2)(C) of the Tariff Act of 1930, as amended (“the Act”): (1) The cash deposit rate for the company under review will be the rate established in the final results of this review (except, if the rate is zero or below de minimis, i.e., 0.5 percent, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and, (4) if neither the exporter nor the manufacturer is a firm covered in this or any previous review, the cash deposit rate will be the all others rate for this proceeding, 2.40 percent, as established in the less-than-fair-value investigation. These deposit requirements, when imposed, shall remain in effect until further notice.

Notification Regarding Administrative Protective Orders

This notice is the only reminder to parties subject to the administrative protective order (“APO”) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a sanctionable violation.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These final results of administrative review and notice are published in accordance with sections 751(a)(1) and 777(i)(1) of the Act and 19 CFR 351.213(h).

Dated: February 24, 2014.
Paul Piquado,
Assistant Secretary for Enforcement and Compliance.

Appendix

Topic Discussed in the Issues and Decision Memorandum

Whether Shinkong's underutilized capacity should be classified as a cost of manufacturing or as a general and administrative expense.

[FR Doc. 2014-04429 Filed 2-27-14; 8:45 am]

BILLING CODE 3510-DS-P